DEPARTMENT OF ENERGY

Federal Energy Regulatory Commission

[Docket No. EG05-12-000, et al.]

Stahl Wind Energy, LLC, et al.; Electric Rate and Corporate Filings

October 25, 2004.

The following filings have been made with the Commission. The filings are listed in ascending order within each docket classification.

1. Stahl Wind Energy, LLC

[Docket No. EG05-12-000]

On October 22, 2004, Stahl Wind Energy, LLC (Stahl Wind) filed with the Federal Energy Regulatory Commission an application for determination of exempt wholesale generator status pursuant to part 365 of the Commission's regulations.

Stahl Wind states that it owns and operates a 1.65 MW wind energy conversion facility in Pipestone, Minnesota, which sells its entire output to Northern States Power Company exclusively at wholesale pursuant to a long-term power purchase agreement. Stahl Wind further states that the facility interconnects with NSP on an NSP 69 kV transmission line in Minnesota and the Stahl Wind facility includes only those interconnection facilities needed to deliver energy from the facility to NSP for its wholesale sale and purchase.

Stahl Wind is a Minnesota limited liability company owned and operated by Jacob Stahl, a Minnesota resident. Edison Capital, an indirect, wholly-owned subsidiary of Edison International, proposes to acquire 99% of Stahl Wind. Edison International is the parent company of Southern California Edison Company, a public utility under the Federal Power Act.

No state regulatory approvals or determinations were sought or received with respect to the facility or the power purchase agreement.

Comment Date: 5 p.m. eastern time on November 12, 2004.

2. Greenback Energy, LLC

[Docket No. EG05-13-000]

On October 22, 2004, Greenback Energy, LLC (Greenback) filed with the Federal Energy Regulatory Commission an application for determination of exempt wholesale generator status pursuant to part 365 of the Commission's regulations.

Greenback states that it owns and operates a 1.65 MW wind energy conversion facility in Pipestone, Minnesota, which sells its entire output to Northern States Power Company exclusively at wholesale pursuant to a long-term power purchase agreement. Greenback further states that the facility interconnects with NSP on an NSP 69 kV transmission line in Minnesota and the Greenback facility includes only those interconnection facilities needed to deliver energy from the facility to NSP for its wholesale sale and purchase.

Greenback is a Minnesota limited liability company owned and operated by Douglas R. Muth, a Minnesota resident. Edison Capital, an indirect, wholly-owned subsidiary of Edison International, proposes to acquire 99% of Greenback. Edison International is the parent company of Southern California Edison Company, a public utility under the Federal Power Act.

No state regulatory approvals or determinations were sought or received with respect to the facility or the power purchase agreement.

Comment Date: 5 p.m. eastern time on November 12, 2004.

3. Carstensen Wind, LLC

[Docket No. EG05-14-000]

On October 22, 2004, Carstensen Wind, LLC (Carstensen Wind) filed with the Federal Energy Regulatory Commission an application for determination of exempt wholesale generator status pursuant to part 365 of the Commission's regulations.

Carstensen Wind states that it owns and operates a 1.65 MW wind energy conversion facility in Pipestone, Minnesota, which sells its entire output to Northern States Power Company exclusively at wholesale pursuant to a long-term power purchase agreement. Carstensen further states that the facility interconnects with NSP on an NSP 69 kV transmission line in Minnesota and the Carstensen Wind facility includes only those interconnection facilities needed to deliver energy from the facility to NSP for its wholesale sale and purchase.

Carstensen Wind is a Minnesota limited liability company owned and operated by Ricky Carstensen, a Minnesota resident. Edison Capital, an indirect, wholly-owned subsidiary of Edison International, proposes to acquire 99% of Carstensen Wind. Edison International is the parent company of Southern California Edison Company, a public utility under the Federal Power Act.

No state regulatory approvals or determinations were sought or received with respect to the facility or the power purchase agreement.

Comment Date: 5 p.m. eastern time on November 12, 2004.

4. Lucky Wind, LLC

[Docket No. EG05-15-000]

On October 22, 2004, Lucky Wind, LLC (Lucky Wind) filed with the Federal Energy Regulatory Commission an application for determination of exempt wholesale generator status pursuant to part 365 of the Commission's regulations.

Lucky Wind states that it owns and operates a 1.65 MW wind energy conversion facility in Pipestone, Minnesota, which sells its entire output to Northern States Power Company exclusively at wholesale pursuant to a long-term power purchase agreement. Lucky Wind further states that the facility interconnects with NSP on an NSP 69 kV transmission line in Minnesota and the Lucky Wind facility includes only those interconnection facilities needed to deliver energy from the facility to NSP for its wholesale sale and purchase.

Lucky Wind is a Minnesota limited liability company owned and operated by Robecca Walters, a Minnesota resident. Edison Capital, an indirect, wholly-owned subsidiary of Edison International, proposes to acquire 99% of Lucky Wind. Edison International is the parent company of Southern California Edison Company, a public utility under the Federal Power Act.

No state regulatory approvals or determinations were sought or received with respect to the facility or the power purchase agreement.

Comment Date: 5 p.m. eastern time on November 12, 2004.

5. Northern Lights Wind, LLC

[Docket No. EG05-16-000]

On October 22, 2004, Northern Lights Wind, LLC (Northern Lights) filed with the Federal Energy Regulatory Commission an application for determination of exempt wholesale generator status pursuant to part 365 of the Commission's regulations.

Northern Lights states that it owns and operates a 1.65 MW wind energy conversion facility in Pipestone, Minnesota, which sells its entire output to Northern States Power Company exclusively at wholesale pursuant to a long-term power purchase agreement. Northern Lights further states that the facility interconnects with NSP on an NSP 69 kV transmission line in Minnesota and the Northern Lights facility includes only those interconnection facilities needed to deliver energy from the facility to NSP for its wholesale sale and purchase.

Northern Lights states it is a Minnesota limited liability company owned and operated by Brad J. Messerli, a Minnesota resident. Edison Capital, an indirect, wholly-owned subsidiary of Edison International, proposes to acquire 99% of Northern Lights. Edison International is the parent company of Southern California Edison Company, a public utility under the Federal Power Act.

No state regulatory approvals or determinations were sought or received with respect to the facility or the power purchase agreement.

Comment Date: 5 p.m. eastern time on November 12, 2004.

6. Boston Edison Company

[Docket No. EL02-123-006]

Take notice that, on October 21, 2004, Boston Edison Company (BECo) submitted its compliance filing to the September 21, 2004, order in Docket Nos. EL02-123-003 and 004.

BECo states that copies of the filing were served upon the official service list in the above-docketed proceeding and the affected customers.

Comment Date: 5 p.m. eastern time on November 12, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2976 Filed 11-1-04; 8:45 am]

BILLING CODE 6717-01-P